FEDERAL MARITIME COMMISSION

[Docket No. 24-09]

Notice of Filing of Amended Complaint; TZ SSE Buyer, LLC, Complainant v. COSCO Shipping Lines Co., Ltd., Respondent

Served: October 17, 2024.

Notice is given that an amended complaint has been filed with the Federal Maritime Commission (the “Commission”) by TZ SSE Buyer, LLC (the “Complainant”) against COSCO Shipping Lines Co., Ltd. (the “Respondent”). Complainant states that the Commission has jurisdiction over the amended complaint pursuant to 46 U.S.C. 41301 through 41309 and personal jurisdiction over the Respondent as an ocean common carrier, as defined in 46 U.S.C. 40102(18), that has entered into a service contract, as defined in 46 U.S.C. 40102(21), with the original complainants.

Complainant is a Delaware limited liability company with a principal place of business in Toledo, Ohio. Impact Products, LLC and Safety Zone, LLC (the “original complainants”) filed the verified complaint in this proceeding on February 7, 2024, and subsequently filed for Chapter 11 bankruptcy and sold the claims asserted in this proceeding to Complainant. The original complainants are shippers as this term is defined under 46 U.S.C. 40102(23) with offices in Ohio, Tennessee, and Connecticut, among other locations.

Complainant identifies Respondent as a company organized under the laws of China with its United States office located in Secaucus, New Jersey and as a global ocean carrier.

Complainant alleges that Respondent violated 46 U.S.C. 41102(c) and 41104(a)(10) and 46 CFR 545.5. Complainant alleges these violations arose from assessment of demurrage, detention, per diem, and yard storage charges during periods of time in which the charges were not just or reasonable because of circumstances outside the control of the original complainants and their agents and service providers, and from the acts or omissions of the Respondent that led to the assessment of these charges.

An answer to the amended complaint must be filed with the Commission as provided in Administrative Law Judge Alex M. Chintella's October 16, 2024, Order Granting Motion for Leave to File Second Amended Complaint. The full text of the amended complaint and this order can be found in the Commission's electronic Reading Room at https://www2.fmc.gov/readingroom/proceeding/24-09/.

The initial decision of the presiding judge shall be issued by February 14, 2025, and the final decision of the Commission shall be issued by August 29, 2025.

David Eng,
Secretary.

[FR Doc. 2024-24534 Filed 10-22-24; 8:45 am]

BILLING CODE 6730-02-P